COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to remove a product currently included in Annex 3.25 of the CAFTA-DR Agreement.

DATES: October 5, 2015.

SUMMARY: The Committee for the Implementation of Textile Agreements (“CITA”) has determined that certain three-thread circular knit fleece fabrics, as specified below, are available in the CAFTA-DR countries in commercial quantities in a timely manner. The product, which is currently included in Annex 3.25 of the CAFTA-DR Agreement in unrestricted quantities, will be removed, effective 180 days after publication of this notice.

FOR FURTHER INFORMATION CONTACT: Laurie Mease, Office of Textiles and Apparel, U.S. Department of Commerce, (202) 482-2043. For information online see http://web.ita.doc.gov/tacgi/CaftaReqTrack.nsf under “Approved Requests,” Reference number: 195.2015.02.27.Fabric.SS&AforGildanUSA.

SUPPLEMENTARY INFORMATION:

Authority: The CAFTA-DR Agreement; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5) by adding or removing items when the United States determines that a fabric, yarn, or fiber is not available in commercial quantities in a timely manner in the territory of any Party; or when the United States determines that a fabric, yarn, or fiber currently on the list is available in commercial quantities in a timely manner. The CAFTA-DR Implementation Act authorizes the President to make such modifications to the list in Annex 3.25. See Annex 3.25 of the CAFTA-DR Agreement; see also section 203(o)(4)(C) and (E) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of the CAFTA-DR Implementation Act for modifying the list in Annex 3.25. Pursuant to this authority, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200 (September 15, 2008)) (“CITA's procedures”).

On February 27, 2015, the Chairman of CITA received a request from Sorini Samet & Associates, on behalf of Gildan USA, Inc. (“Gildan”) for a Commercial Availability determination to remove or restrict (“Request to Remove”) certain three-thread circular knit fleece fabrics, currently listed in Annex 3.25. Gildan offered to supply the specified fabrics and provided information demonstrating its ability to supply commercial quantities in a timely manner. On March 3, 2015, in accordance with CITA's procedures, CITA notified interested parties of the Request to Remove, which was posted on the dedicated Web site for CAFTA-DR commercial availability proceedings. In its notification, CITA advised that any Response to the Request to Remove must be submitted by March 13, 2015, and any Rebuttal Comments to a Response must be submitted by March 19, 2015, in accordance with Sections 6, 7 and 9 of CITA's procedures. No interested entity submitted a Response advising CITA of its objection to the Request to Remove. In accordance with section 203(o)(4)(C) of the CAFTA-DR Implementation Act, Section 8(a) and (b), and Section 9(c)(3) of CITA's procedures, as no interested entity submitted a Response objecting to the Request to Remove, CITA has determined to approve the Request to Remove the subject product from the list in Annex 3.25. Pursuant to Section 9(c)(3)(iii)(A), textile and apparel articles containing the subject product are not to be treated as originating in a CAFTA-DR country if the subject product is obtained from non-CAFTA-DR sources, effective for goods entered into the United States on or after 180 calendar days after the date of publication of this notice. A revised list in Annex 3.25, noting the effective date of the removal of the subject product, has been posted on the dedicated Web site for CAFTA-DR commercial availability proceedings.

Specifications: Certain Three-Thread Circular Knit Fleece Fabrics

HTS Subheading: 6001.21.0000

Fabric #1:

Fiber Content: 72 to 78 percent cotton, 22 to 28 percent polyester

Yarn:

Face Yarn—Single ply, ring spun cotton. Metric yarn number: 41 to 48; English yarn number: 24 to 28

Tie Yarn—Polyester filament of 49 to 51 denier

Fleece yarn—Single ply staple of 57 to 63 percent cotton and 37 to 43 percent polyester. Metric yarn number: 24 to 30; English yarn number 14 to 18.

Gauge: 20 to 24

Knit Type: Three-thread circular knit

Weight: Metric—285 to 300 grams per square meter; English—8.42 to 9.75 ounces per square yard.

Width: Metric—172 to 183 centimeters; English—68 to 72 inches.

Finish: Napped on the technical back; bleached, yarn dyed, or piece dyed.

Performance Criteria: Not more than 5 percent vertical and horizontal shrinkage and not more than 4 percent vertical torque.

Fabric #2:

Fiber Content: 77 to 83 percent cotton, 17 to 23 percent polyester

Yarn:

Face Yarn—Single ply, ring spun cotton. Metric yarn number: 47 to 54; English yarn number: 28 to 32

Tie Yarn—Polyester filament of 49 to 51 denier

Fleece yarn—Single ply staple of 67 to 73 percent cotton and 27 to 33 percent polyester. Metric yarn number: 24 to 30; English yarn number 14 to 18.

Gauge: 20 to 24

Knit Type: Three-thread circular knit

Weight: Metric—266 to 308 grams per square meter; English—7.85 to 9.08 ounces per square yard.

Width: Metric—146 to 183 centimeters; English—58 to 72 inches.

Finish: Napped on the technical back; bleached, yarn dyed, or piece dyed.

Performance Criteria: Not more than 5 percent vertical and horizontal shrinkage and not more than 4 percent vertical torque.

Joshua Teitelbaum,
Chairman, Committee for the Implementation of Textile Agreements.

[FR Doc. 2015-08029 Filed 4-7-15; 8:45 am]

BILLING CODE 3510-DR-P